DEPARTMENT OF THE INTERIOR

National Park Service

[NPS-WASO-NRNHL-23517; PPWOCRADI0, PCU00RP14.R50000]

National Register of Historic Places; Notification of Pending Nominations and Related Actions

AGENCY: National Park Service, Interior.

ACTION: Notice.

SUMMARY: The National Park Service is soliciting comments on the significance of properties nominated before May 27, 2017, for listing or related actions in the National Register of Historic Places.

DATES: Comments should be submitted by July 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before May 27, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Lauderdale County

McFarland Heights, 501-920 Riverview Dr., 701-735 Pleasant Cir., 410-456 Riverview Cir., Florence, SG100001280

Mobile County

Lower Dauphin Street Commercial District, Water, Conti, Broad, St. Francis & St. Louis Sts., Mobile, SG100001307

CALIFORNIA

Los Angeles County

Christian Science Society, 209 E Whittley Ave., Avalon, SG100001281

Roybal, Edward, House (Latinos in 20th Century California MPS), 628 S Evergreen St., Los Angeles, MP100001282

San Diego County

Montecito Ranch House, 1080 Montecito Way, Ramona, SG100001284

Osuna, Juan Maria, Adobe, 16332 Via de Santa Fe, Rancho Santa Fe, SG100001285

KANSAS

Crawford County

Frisco Freight Depot (Railroad Resources of Kansas MPS), 210 E 4th St., Pittsburg, MP100001286

Douglas County

Oak Hill Cemetery, 1605 Oak Hill Ave., Lawrence, SG100001287

Harper County

Harper Standpipe, 1012 Ash St., Harper, SG100001288

Jefferson County

Newell—Johnson—Searle House, 609 Walnut St., Oskaloosa, SG100001289

Marion County

Keystone Ranch (Agriculture-Related Resources of Kansas MPS), 2910 47th Terrace, Burns, MP100001290

MICHIGAN

Jackson County

First Congregational Church, 120 N Jackson St., Jackson, SG100001294

MINNESOTA

Crow Wing County

Pequot Fire Lookout Tower (Federal Relief Construction in Minnesota, 1933-1943 MPS), Cty. Rd. 11 about 0.5 mi. E of Cty. Rd. 112, Pequot Lakes, MP100001297

MISSOURI

Adair County

First Presbyterian Church, 201 S High St., Kirksville, SG100001298

Greene County

Beverly Apartments (Springfield MPS), 529 Cherry St., Springfield, MP100001299

Jackson County

Gillis Orphans' Home, 2119 Tracy Ave., Kansas City, SG100001300

NORTH CAROLINA

Lenoir County

Wyse Fork Battlefield, Address Restricted, Kinston vicinity, SG100001301

OREGON

Deschutes County

Pilot Butte Canal: Downtown Redmond Segment Historic District (Carey and Reclamation Acts Irrigation Projects in Oregon, 1901-1978 MPS), NW. Canal Blvd. from approx. NW. Quince to NW. Dogwood Aves., Redmond vicinity, MP100001303

TENNESSEE

Franklin County

Saint Margaret Mary Catholic Mission, 9458 Old Alto Hwy., Decherd vicinity, SG100001305

Marshall County

WJJM Radio Station and Tower, 344 E Church St., Lewisburg, SG100001304

Morgan County

Sixteen Tunnel, Tunnels through Sunbright Mt. on ATV trail/abandoned RR grade, Sunbright vicinity, SG100001306

A request for removal has been made for the following resource(s):

KANSAS

Sedgwick County

Ellington Apartment Building (Residential Resources of Wichita, Sedgwick County, Kansas 1870-1957 MPS), 514 S Main St., Wichita, OT13000435

Naomi and Leona Apartment Buildings (Residential Resources of Wichita, Sedgwick County, Kansas 1870-1957 MPS), 507-509 S Market St., Wichita, OT13000436

Nominations submitted by Federal Preservation Officers:

The State Historic Preservation Officer reviewed the following nomination and responded to the Federal Preservation Officer within 45 days of receipt of the nominations and supports listing the property in the National Register of Historic Places.

CALIFORNIA

Siskiyou County

Upper Klamath River Stateline Archaeological District, Address Restricted, Beswick vicinity, SG100001283

Authority: 60.13 of 36 CFR part 60.

Dated: June 5, 2017.
J. Paul Loether,
Keeper, National Register of Historic Places, Chief, National Register of Historic Places/National Historic Landmarks Program.

[FR Doc. 2017-13484 Filed 6-27-17; 8:45 am]

BILLING CODE 4312-52-P